DEPARTMENT OF JUSTICE

[OMB Number 1121-0291]

Office of Justice Programs, Office of Juvenile Justice and Delinquency Prevention, Agency Information Collection Activities: Proposed Collection; Comments Requested

ACTION: 30-Day Notice of Information Collection Under Review; Census of Juveniles on Probation (Reinstatement, with change, of a previously approved collection for which approval has expired).

The Department of Justice (DOJ), Office of Justice Programs, Office of Juvenile Justice and Delinquency Prevention, will be submitting the following information collection request to the Office of Management and Budget (OMB) for review and approval in accordance with the Paperwork Reduction Act of 1995. The proposed information collection is published to obtain comments from the public and affected agencies. The proposed information collection was previously published in the Federal Register Volume 74, Number 59, page 14158 on March 30, 2009, allowing for a 60-day comment period.

The purpose of this notice is to allow for an additional 30 days for public comment until July 6, 2009. This process is conducted in accordance with 5 CFR 1320.10.

If you have comments, especially on the estimated public burden or associated response time, suggestions, or need a copy of the proosed information collection instrument with instructions or additional information, please contact Janet Chiancone, (202) 353-9258, Office of Juvenile Justice and Delinquency Prevention, Office of Justice Programs, U.S. Department of Justice, 810 Seventh Street, NW., Washington, DC 20531.

Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of This Information Collection

(1) Type of information collection: Reinstatement, with change, of a previously approved collection whose approval has expired.

(2) The title of the form/collection: Census of Juveniles on Probation.

(3) The agency form number, if any, and the applicable component of the Department sponsoring the collection: The form number is CJ-17, Office of Juvenile Justice and Delinquency Prevention, United States Department of Justice.

(4) Affected public who will be asked or required to respond, as well as a brief abstract: Primary: Federal Government, State, Local or Tribal. Other: Not-for-profit institutions; Business or other for-profit.

(5) An estimate of the total number of respondents and the amount of time estimated for an average respondent to respond/reply: It is estimated that 1,600 respondents will complete a 3-hour questionnaire.

(6) An estimate of the total public burden (in hours) associated with the collection: Approximately 4,800 hours.

If additional information is required, contact: Lynn Bryant, Department Clearance Officer, United States Department of Justice, Justice Management Division, Policy and Planning Staff, Patrick Henry Building, Suite 1600, 601 D Street NW., Washington, DC 20530.

June 2, 2009.
Lynn Bryant,
Department Clearance Officer, PRA, United States Department of Justice.

[FR Doc. E9-13201 Filed 6-4-09; 8:45 am]

BILLING CODE 4410-18-P